COMMITTEE FOR PURCHASE FROM PEOPLE WHO ARE BLIND OR SEVERELY DISABLED

Procurement List; Addition and Deletions

Correction

In notice document 04-9840 beginning on page 23724 in the issue of Friday, April 30, 2004, make the following correction:

On page 23724, in the second column, in the seventh line from the bottom, remove the duplicated text beginning with the “Service:” heading through the third column, ending before the “Products:” heading.

[FR Doc. C4-9840 Filed 5-11-04; 8:45 am]

BILLING CODE 1505-01-D

DEPARTMENT OF TRANSPORTATION

Federal Aviation Administration

14 CFR Part 39

[Docket No. 2003-NM-263-AD; Amendment 39-13605; AD 2004-09-16]

RIN 2120-AA64

Airworthiness Directives; Dornier Model 328-100 and -300 Series Airplanes

Correction

In rule document 04-10022 beginning on page 24953, in the issue of Wednesday, May 5, 2004 make the following correction:

§ 39.13 [Corrected]

On page 24954, in the first column, in §39.13, after amendatory instruction 2., in the third and fourth lines, “Docket 200-NM-263-AD” should read “Docket 2003-NM-263-AD”.

[FR Doc. C4-10022 Filed 5-11-04; 8:45 am]

BILLING CODE 1505-01-D